DEPARTMENT OF ENERGY

Federal Energy Regulatory Commission

[Docket No. IC21-28-000]

Commission Information Collection Activities (FERC-921); Comment Request; Extension

AGENCY: Federal Energy Regulatory Commission, Energy.

ACTION: Notice of information collection and request for comments.

SUMMARY: In compliance with the requirements of the Paperwork Reduction Act of 1995, the Federal Energy Regulatory Commission (Commission or FERC) is soliciting public comment on the currently approved information collection, FERC-921 (Ongoing Electronic Delivery of Data from Regional Transmission Organization and Independent System Operators).

DATES: Comments on the collection of information are due August 19, 2021.

ADDRESSES: Send written comments on FERC-921 to OMB through www.reginfo.gov/public/do/PRAMain, Attention: Federal Energy Regulatory Commission Desk Officer. Please identify the OMB control number (1902-0257) in the subject line. Your comments should be sent within 30 days of publication of this notice in the Federal Register.

Please submit copies of your comments (identified by Docket No. IC21-28-000) to the Commission as noted below. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-921, Ongoing Electronic Delivery of Data from Regional Transmission Organization and Independent System Operators.

OMB Control No.: 1902-0257.

Type of Request: Three-year extension of the FERC-921 information collection requirements with no changes to the current reporting requirements.

Abstract: The collection of data in FERC-921 is an effort by the Commission, implemented under Order No. 760,¹ to detect potential anti-competitive or manipulative behavior or ineffective market rules by requiring Regional Transmission Organizations (RTO) and Independent System Operators (ISO) to electronically submit, on a continuous basis, data relating to physical and virtual offers and bids, market awards, resource outputs, marginal cost estimates, shift factors, financial transmission rights, internal bilateral contracts, uplift, and interchange pricing. Although provision was made by the Commission that market monitoring units (MMUs) may provide datasets, all data for this collection has (and is expected to continue to) come from each RTO or ISO and not the MMUs. Therefore, any associated burden is counted as burden on RTO and ISO.

¹ Enhancement of Electricity Market Surveillance and Analysis through Ongoing Electronic Delivery of Data from Regional Transmission Organizations and Independent System Operators, Order No. 760, 139 FERC ¶ 61,053 (2012).

While the ongoing delivery of data under FERC-921 is continuous and routine, each RTO or ISO makes sporadic changes to its individual market with Commission approval. When those changes occur, the RTO or ISO may need to change the data being routinely sent to the Commission to ensure compliance with Order No. 760. Such changes typically require respondents to alter the ongoing delivery of data under FERC-921. The burden associated with a change varies considerably based on the significance of the specific change; therefore, the estimate below is intended to reflect the incremental burden for an average change. Based on historical patterns, staff estimates there to be about one and a half changes of this nature per RTO or ISO per year.

Type of Respondent: Regional Transmission Organizations (RTO) and Independent System Operators (ISO).

The Commission published a 60-day Paperwork Reduction Act Notice ² on May 13, 2021 and no comments were received.

² 86 FR 26220.

Estimate of Annual Burden: ³ The Commission estimates the total annual burden and cost ⁴ for this information collection as follows. The ongoing electronic delivery of data requires the following occupations (which includes wages and benefits): ⁵

³ “Burden” is the total time, effort, or financial resources expended by persons to generate, maintain, retain, or disclose or provide information to or for a Federal agency. For further explanation of what is included in the information collection burden, refer to Title 5 Code of Federal Regulations 1320.3.

⁴ Costs (for wages and benefits) are based on the mean wage estimate by the Bureau of Labor Statistics' (BLS) Occupational Employment and Wage Statistics (OEWS) program from May 2020 (https://www.bls.gov/oes/current/naics2_22.htm.) and benefits information, accounting for 70.3% of average employment (released March 2021) for private industry workers (https://www.bls.gov/news.release/ecec.nr0.htm). We estimate the total time required per change to be 320 hours. Because a response encompasses one year where there are, on average, 1.5 changes, the total time per response is 480 hours (1.5 × 320 hours).

⁵ The loaded hourly wage for each occupation is as follows:

• Computer Systems Analysts: $47.63 (base hourly wage) ÷ 70.3% (benefits) = $67.75.

• Legal: $100 (base hourly wage) ÷ 70.3% (benefits) = $142.25.

• Database Administrators and Architects: $50.65 (base hourly wage) ÷ 70.3% (benefits) = $71.92.

• 75% of the time is spent by Computer Systems Analysts (Occupational Code: 15-1211) at $67.75/hr.,

• 12.5% of the time is spent by Legal (Occupation Code: 23-0000) at $142.25/hr., and

• 12.5% of the time is spent by Database Administrators and Architects (Occupational Code: 15-1245) at $71.92/hr.,

Therefore, we use the weighted hourly cost (for wages and benefits) of $77.59.⁸

⁶ Each RTO/ISO electronically submits data daily. To match with past filings, we are considering the collection of daily responses to be a single response.

⁷ Each RTO/ISO is estimated to make one and a half changes yearly. To be consistent with the formulation that the submissions over the course of a year constitute a single response, for the purpose of this calculation, we are assuming that each response requires one and a half changes over the course of the year and estimating burden accordingly.

⁸ The rounded weighted hourly cost breakdown includes: [(0.75 * $67.75) + (0.125 * $142.25) + (0.125 * $71.92)] = $77.59.

FERC-921 (Ongoing Electronic Delivery of Data From Regional Transmission Organizations and Independent System Operators)
Category | Number of respondents | Annual number of responses per respondent | Total number of responses | Average annual burden & cost per response | Total average annual burden hours & cost | Annual cost per respondent ($)
| (1) | (2) | (1) * (2) = (3) | (4) | (3) * (4) = (5) | (5) ÷ (1)
Ongoing electronic delivery of data | 6 | 1 | ⁶ 6 | 52 hrs.; $4,034.68 | 312 hrs.; $24,208.08 | $4,034.68
Data Delivery Changes over the year | 6 | 1 | ⁷ 6 | 480 hrs.; $37,243.20 | 2,880 hrs.; $223,459.20 | 37,243.20
Total | 6 | 2 | 12 |  | 3,192 hrs.; $247,667.28 | 41,277.88

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 13, 2021.
Kimberly D. Bose,
Secretary.

[FR Doc. 2021-15400 Filed 7-19-21; 8:45 am]

BILLING CODE 6717-01-P